DEPARTMENT OF TRANSPORTATION

Federal Highway Administration

Environmental Impact Statement: Jefferson Parish, LA

AGENCY: Federal Highway Administration (FHWA), DOT.

ACTION: Notice of intent.

SUMMARY: The FHWA is issuing this notice to advise the public that an Environmental Impact Statement will be prepared for a proposed bridge project in Jefferson Parish, Louisiana.

FOR FURTHER INFORMATION CONTACT: William C. Farr, Program Operations Manager, Federal Highway Administration, 5304 Flanders Drive, Suite A, Baton Rouge, Louisiana, 70808, Telephone: (225) 757-7615, Facsimile: (225) 757-7601.

SUPPLEMENTARY INFORMATION: The FHWA, in cooperation with the Louisiana Department of Transportation and Development (LDOTD), will prepare an Environmental Impact Statement (EIS) on a proposal to construct a new bridge facility on an alignment to be determined. The proposed project, known locally as the Kerner's Ferry Bridge over Bayou Barataria, is located in the town of Jean Lafitte in Jefferson Parish, Louisiana. The project will connect LA 3257 with LA 45. The approximate distance of the project is 0.27 miles. Final length will depend on the alternative selected.

The proposed improvements would improve the connectivity, travel time, and safety of the area and increase regional access to the area.

The study area encompasses the logical termini, which are LA 302 on the west bank and LA 45 on the east bank of Bayou Barataria. The corridor limits for the project will be one mile north of the existing bridge to five miles south.

Alternatives to be considered are:

(1) Low level moveable bridge

(2) Mid level moveable bridge

(3) High level fixed bridge

(4) No Action

An agency scoping meeting will be held at a time and place to be determined at a later date. Letters describing the proposed action and soliciting comments will be sent to appropriate Federal, state, and local agencies and to private organizations, including conservation groups and groups of individuals who have expressed interest in the project in the past. At least one public informational meeting will be held in the project area that will be affected. In addition, a Public Hearing will be held. Public notice will be given of the time and place of the public informational meeting(s) and the Public Hearing. The draft EIS will be available for public and agency review and comment prior to the Public Hearing.

To ensure that the full range of issues related to this proposed action are addressed, and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Dated: Issued on July 21, 2000.
William A. Sussmann,
Division Administrator, FHWA, Baton Rouge, Louisiana.

[FR Doc. 00-19655 Filed 8-2-00; 8:45 am]

BILLING CODE 4910-22-M